DEPARTMENT OF COMMERCE

National Oceanic and Atmospheric Administration

50 CFR Part 622

[I.D. 071001F]

RIN 0648-AO51

Fisheries of the Caribbean, Gulf of Mexico, and South Atlantic; Shrimp Fishery of the Gulf of Mexico; Fishery Management Plan

AGENCY: National Marine Fisheries Service (NMFS), National Oceanic and Atmospheric Administration (NOAA), Commerce.

ACTION: Notice of availability; request for comments.

SUMMARY: NMFS announces that the Gulf of Mexico Fishery Management Council (Council) has submitted Amendment 11 to the Fishery Management Plan (FMP) for the Shrimp Fishery of the Gulf of Mexico (Amendment 11) to NMFS for review, approval, and implementation. Amendment 11 would require all shrimp vessels harvesting shrimp in the Gulf of Mexico exclusive economic zone (EEZ) to obtain an annually renewable Federal shrimp vessel permit from NMFS and would prohibit the use of traps in the royal red shrimp fishery of the Gulf of Mexico. Written comments are requested from the public.

DATES: Written comments must be received on or before September 17, 2001.

ADDRESSES: Comments must be mailed to the Southeast Regional Office, NMFS, 9721 Executive Center Drive N., St. Petersburg, FL 33702. Comments may also be sent via fax to 727-522-5583. Comments will not be accepted if submitted via e-mail or Internet.

Copies of Amendment 11, which includes an Environmental Assessment, a Regulatory Impact Review, and an Initial Regulatory Flexibility Analysis are available from the Gulf of Mexico Fishery Management Council, The Commons at Rivergate, 3018 U.S. Highway 301 North, Suite 1000, Tampa, FL 33619-2266. phone: 813-228-2815; fax: 813-833-1844.

Written comments regarding the collection-of-information (e.g., permits) requirements contained in this document may be submitted to Robert Sadler, Southeast Regional Office, NMFS, 9721 Executive Center Drive N., St. Petersburg, FL 33702, and to the Office of Information and Regulatory Affairs, Office of Management and Budget, Washington, DC 20503 (Attention: NOAA Desk Officer).

FOR FURTHER INFORMATION CONTACT: Dr. Steven Branstetter, 727-570-5305; fax 727-570-5583; e-mail: steve.branstetter&noaa.gov.

SUPPLEMENTARY INFORMATION: The Magnuson-Stevens Fishery Conservation and Management Act (Magnuson-Stevens Act) requires each Regional Fishery Management Council to submit any fishery management plan (FMP) or amendment to NMFS for review and approval, disapproval, or partial approval. The Magnuson-Stevens Act also requires that NMFS, upon receiving an FMP or amendment, immediately publish a document in the Federal Register stating that the FMP or amendment is available for public review and comment.

The shrimp fishery is the largest fishery in terms of numbers of fishing vessels and participants in the Gulf of Mexico, but is one of the few federally managed fisheries with no fishing permit requirement. Currently, there are limited data available to estimate the number of shrimp fishing vessels and fishing effort expended by those vessels in the Gulf of Mexico EEZ. Amendment 11 would require all shrimp vessels harvesting shrimp in the Gulf of Mexico EEZ to obtain an annually renewable Federal shrimp vessel permit from NMFS. In proposing this action, the Council concluded that information collected via a Federal permit system would aid in the formulation of sound management measures for the shrimp fishery and for those finfish fisheries that are impacted because of the bycatch and bycatch mortality attributable to the shrimp fishery.

Royal red shrimp have been a small component of the Gulf of Mexico shrimp fishery since the early 1960s, traditionally being fished by vessels using modified shrimp trawls at depths exceeding 100 fathoms (183 meters). The Council concluded that allowing trap gear to be used in this fishery would likely lead to gear conflicts and could lead to overfishing. At the Council’s request, NMFS implemented an emergency interim rule prohibiting the use of trap gear in the royal red shrimp fishery within the EEZ of the Gulf of Mexico that was promulgated on September 19, 2000 (65 FR 56500), and was extended until September 14, 2001 (66 FR 14862, March 14, 2001).

A proposed rule that would implement measures contained in Amendment 11 has been received from the Council. In accordance with the Magnuson-Stevens Act, NMFS is evaluating the proposed rule to determine whether it is consistent with the FMP, the Magnuson-Stevens Act, and other applicable law. If that determination is affirmative, NMFS will publish the proposed rule in the Federal Register for public review and comment.

Comments received by September 17, 2001, whether specifically directed to the FMP or the proposed rule, will be considered by NMFS in its decision to approve, disapprove, or partially approve Amendment 11. Comments received after that date will not be considered by NMFS in this decision. All comments received by NMFS on Amendment 11 or its proposed rule during their respective comment periods will be addressed in the final rule.

Authority: 16 U.S.C. 1801 et seq.

Dated: July 13, 2001.
Bruce C. Morehead
Acting Director, Office of Sustainable Fisheries, National Marine Fisheries Service.

[FR Doc. 01-18104 Filed 7-18-01; 8:45 am]

BILLING CODE 3510-22-S